DEPARTMENT OF COMMERCE

National Oceanic and Atmospheric Administration

[RTID 0648-XD910]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council (Council) will hold a meeting of the Scientific and Statistical Committee (SSC).

DATES: The meeting will be held on Tuesday, May 14, 2024, starting at 9:30 a.m. and continue through 12:30 p.m. on Wednesday, May 15, 2024. See SUPPLEMENTARY INFORMATION for agenda details.

ADDRESSES: This will be an in-person meeting with a virtual option. SSC members, other invited meeting participants, and members of the public will have the option to participate in person at the Royal Sonesta Harbor Court (550 Light Street, Baltimore, MD) or virtually via Webex webinar. Webinar connection instructions and briefing materials will be available at: www.mafmc.org/ssc.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: During this meeting, the SSC will review the most recent survey and fishery data and the previously recommended 2025 Acceptable Biological Catch (ABC) for Longfin Squid, Illex Squid, and Chub Mackerel. The SSC will also receive an introductory overview of the recently peer reviewed Black Sea Bass, Golden Tilefish, and Applying State-Space Models research track stock assessments. The SSC will receive an update on the results of the 2023 South Atlantic Deepwater Longline Survey and the Mid-Atlantic Golden Tilefish Longline Survey. The SSC will have an initial discussion about the Recreational Measures Setting Process Framework/Addenda and the work plan of the SSC sub-group that was formed to provide feedback on this management action to the Council. The SSC will also make recommendations for Council consideration regarding updates to the SSC overfishing limit (OFL) coefficient of variation (CV) guidance document. The SSC may take up any other business as necessary.

A detailed agenda and background documents will be made available on the Council's website (www.mafmc.org) prior to the meeting.

Special Accommodations

These meetings are physically accessible to people with disabilities. Requests for sign language interpretation or other auxiliary aid should be directed to Shelley Spedden, (302) 526-5251, at least 5 days prior to the meeting date.

Authority: 16 U.S.C. 1801 et seq.

Dated: April 24, 2024.
Rey Israel Marquez,
Acting Deputy Director, Office of Sustainable Fisheries, National Marine Fisheries Service.

[FR Doc. 2024-09229 Filed 4-29-24; 8:45 am]

BILLING CODE 3510-22-P